DEPARTMENT OF THE INTERIOR

Bureau of Land Management

[LLIDT000000.L11200000.DD0000.241A.00]

Notice of Public Meetings, Twin Falls District Resource Advisory Council, Idaho

AGENCY: Bureau of Land Management, Interior.

ACTION: Notice of public meetings.

SUMMARY: In accordance with the Federal Land Policy and Management Act (FLPMA), the Federal Advisory Committee Act of 1972 (FACA), the U.S. Department of the Interior, Bureau of Land Management (BLM) Twin Falls District Resource Advisory Council (RAC) and subcommittee for the proposed Monument and Cassia Land Use Plan amendments will meet as indicated below.

DATES: On June 5, 2012, the Twin Falls District RAC subcommittee members for the proposed Monument and Cassia Land Use Plan amendments will meet at the Twin Falls District BLM office, 2536 Kimberly Road, Twin Falls, Idaho. The meeting will begin at 6:00 p.m. and end no later than 9:00 p.m. The public comment period for the RAC subcommittee meeting will take place 6:10 p.m. to 6:40 p.m. On June 26, the Twin Falls District Resource Advisory Council will tour Craters of the Moon National Monument area, following a public comment period to take place at the BLM Shoshone Field Office, Fire Ready Room, 400 West F Street, Shoshone, Idaho, 83352. The public comment for the RAC meeting on June 26 will take place 9:00 a.m. to 9:30 a.m.

FOR FURTHER INFORMATION CONTACT: Heather Tiel-Nelson, Twin Falls District, Idaho, 2536 Kimberly Road, Twin Falls, Idaho, 83301, (208) 736-2352.

SUPPLEMENTARY INFORMATION: The 15-member RAC advises the Secretary of the Interior, through the Bureau of Land Management, on a variety of planning and management issues associated with public land management in Idaho. During the June 5th meeting, RAC subcommittee members will discuss rock climbing, camping, staging, trail-building and other recreational issues at Cedar Fields and Castle Rocks. The June 26th meeting will focus on sage-grouse issues and RAC members will tour the Craters of the Moon National Monument area to view the process being used by staff to inventory sage-grouse habitat throughout the Monument.

Additional topics may be added and will be included in local media announcements. More information is available at www.blm.gov/id/st/en/res/resource_advisory.3.html RAC meetings are open to the public.

Dated: May 3, 2012.
Jenifer Arnold,
District Manager (Acting).

[FR Doc. 2012-11716 Filed 5-14-12; 8:45 am]

BILLING CODE 4310-GG-P